DEPARTMENT OF VETERANS AFFAIRS

[OMB Control No. 2900-0165]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each extension of a currently approved collection, and allow 60 days for public comment in response to the notice. This notice solicits comments on information needed to evaluate claimant's eligibility for waiver of collection, payment plans or compromises on VA benefits debts.

DATES: Written comments and recommendations on the proposed collection of information should be received on or before May 19, 2003.

ADDRESSES: Submit written comments on the collection of information to David Sturm, VA Debt Management Center, Bishop Henry Whipple Federal Building, 1 Federal Drive, Room 156D, Ft. Snelling, MN 55123 or e-mail to: DMCDSTUR@VBA.VA.GOV. Please refer to “OMB Control No. 2900-0165” in any correspondence.

FOR FURTHER INFORMATION CONTACT: David Sturm at (612) 970-5702 or FAX (612) 970-5687.

SUPPLEMENTARY INFORMATION: Under the PRA of 1995 (Pub. L. 104-13; 44 U.S.C. 3501-3520), Federal agencies must obtain approval from the Office of Management and Budget (OMB) for each collection of information they conduct or sponsor. This request for comment is being made pursuant to section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Financial Status Report, VA Form 5655.

OMB Control Number: 2900-0165.

Type of Review: Extension of a currently approved collection.

Abstract: VA Form 5655 is attached to first collection letters sent to debtors owing VA benefit debts. Submission of the completed form is voluntary on the part of the debtor unless he or she requests waiver of collection, makes a compromise offer, wishes to make installment payments or establish his or her inability to pay the debt under any circumstances. Federal employees subject to salary offset may use Form 5655 to support their contention that the proposed offset schedule would create extreme hardship. The information obtained is used to determine the financial status of the debtors, his/her ability to pay, and the feasibility of exploring compromise.

Affected Public: Individuals or households.

Estimated Annual Burden: 45,553 hours.

Estimated Average Burden Per Respondent: 1 hour.

Frequency of Response: On occasion.

Estimated Number of Respondents: 45,553.

Dated: February 26, 2003.
By direction of the Secretary.
Martin L. Hill,
Acting Director, Records Management Service.

[FR Doc. 03-6612 Filed 3-18-03; 8:45 am]

BILLING CODE 8320-01-P